DEPARTMENT OF COMMERCE

International Trade Administration

[A-580-895, A-583-861]

Low Melt Polyester Staple Fiber From the Republic of Korea and Taiwan: Postponement of Preliminary Determinations in the Less-Than-Fair-Value Investigations

AGENCY: Enforcement and Compliance, International Trade Administration, Department of Commerce.

DATES: Effective November 20, 2017.

FOR FURTHER INFORMATION CONTACT: Alice Maldonado at (202) 482-4682 (Republic of Korea (Korea)) or Rebecca M. Janz at (202) 482-4682 (Taiwan), AD/CVD Operations, Enforcement and Compliance, International Trade Administration, U.S. Department of Commerce, 14th Street and Constitution Avenue NW., Washington, DC 20230.

SUPPLEMENTARY INFORMATION:

Background

On July 17, 2017, the Department of Commerce (the Department) initiated less-than-fair-value (LTFV) investigations of imports of low melt polyester staple fiber (low melt PSF) from Korea and Taiwan.¹ Currently, the preliminary determinations are due no later than December 4, 2017.

¹ See Low Melt Polyester Staple Fiber from the Republic of Korea and Taiwan: Initiation of Less-Than-Fair-Value Investigations, 82 FR 34277 (July 24, 2017).

Postponement of Preliminary Determinations

Section 733(b)(1)(A) of the Tariff Act of 1930, as amended (the Act), requires the Department to issue the preliminary determination in an LTFV investigation within 140 days after the date on which the Department initiated the investigation. However, section 733(c)(1) of the Act permits the Department to postpone the preliminary determination until no later than 190 days after the date on which the Department initiated the investigation if: (A) the petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request. See 19 CFR 351.205(e).

² The petitioner is Nan Ya Plastics Corporation, America.

On November 7, 2017, the petitioner submitted a timely request that the Department postpone the preliminary determinations in these LTFV investigations.³ The petitioner stated that it requests postponement because the Department is still gathering data and questionnaire responses, and additional time is necessary for the Department and interested parties to review and analyze all questionnaire responses, as well as for interested parties to comment on these responses.⁴

³ See the Petitioner's Letter re: Low Melt Polyester Staple Fiber from the Republic of Korea and Taiwan—Petitioners' Request to Postpone the Antidumping Duty Preliminary Determinations, dated November 7, 2017.

⁴ Id.

For the reasons stated above and because there are no compelling reasons to deny the request, the Department, in accordance with section 733(c)(1)(A) of the Act, is postponing the deadline for the preliminary determinations by 50 days (i.e., 190 days after the date on which these investigations were initiated). As a result, the Department will issue its preliminary determinations no later than January 23, 2018. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: November 14, 2017.
Gary Taverman,
Deputy Assistant Secretary for Antidumping and Countervailing Duty Operations, performing the non-exclusive functions and duties of the Assistant Secretary for Enforcement and Compliance.

[FR Doc. 2017-25084 Filed 11-17-17; 8:45 am]

BILLING CODE 3510-DS-P